DEPARTMENT OF THE INTERIOR

Bureau of Land Management

[CO-140-1610-DT-009C]

Notice of Availability of the Proposed Roan Plateau Resource Management Plan Amendment/Final Environmental Impact Statement, Colorado

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Proposed Resource Management Plan Amendment/Final Environmental Impact Statement (PRMPA/FEIS) for the Roan Plateau planning area.

DATES: The BLM Planning Regulations (43 CFR 1610.5-2) state that any person who participated in the planning process, and has an interest which is or may be adversely affected, may protest BLM's approval or amendment of a RMP. You must file a protest within 30 days of the date that the Environmental Protection Agency publishes this Notice of Availability in the Federal Register. Instructions for filing of protests are described on the inside front cover of the PRMPA/FEIS and in the Supplementary Information section of this notice.

ADDRESSES: To obtain a copy of the document, visit the Web site at http:www.blm.gov/rmp/co/roanplateau and follow the instructions, or write to: Roan Plateau Request, Glenwood Springs Field Office, Bureau of Land Management, 50629 Highways 6 & 24, Glenwood Springs, Colorado 81601.

FOR FURTHER INFORMATION CONTACT: Greg Goodenow—Planning and Environmental Coordinator, Steve Bennett—Associate Field Manager, or Jamie Connell—Field Manager at the Glenwood Springs Field Office, Bureau of Land Management, 50629 Highways 6 & 24, Glenwood Springs, Colorado 81601. The Glenwood Springs Field Office telephone number is (970) 947-2800. All three can be reached via e-mail at colorado_roanplateau@co.blm.gov.

SUPPLEMENTARY INFORMATION: Copies of the PRMPA/FEIS have been sent to affected Federal, State, tribal, and local government agencies and to interested parties. Copies of the PRMPA/FEIS are available for public inspection at the BLM Glenwood Springs Field Office (50629 Highways 6 & 24, Glenwood Springs, Colorado) or the White River Field Office (73544 Highway 64, Meeker, Colorado, 81641) during normal working hours (7:45 a.m. to 4:30 p.m., except weekends and holidays).

Interested persons may also review the PRMPA/FEIS on the Internet at http:www.blm.gov/rmp/co/roanplateau. Comments on the Draft RMP Amendment/EIS received from the public and internal BLM review comments were incorporated into the PRMPA/FEIS. Public comments resulted in the addition of clarifying text, and development of a new alternative with impacts within the range of impacts of the alternatives analyzed in the Roan Plateau Draft RMP Amendment/EIS.

The Roan Plateau Resource Management Plan Amendment (RMPA) and Environmental Impact Statement (EIS) presents options for management of BLM administered lands in the Roan Plateau Planning Area. This includes Naval Oil Shale Reserves (NOSRs) Numbers 1 and 3, for which management was transferred from the U.S. Department of Energy (DOE) to BLM in 1997. The Planning Area, which is in west-central Colorado, includes approximately 73,602 acres of land (Federal surface, Federal mineral estate, or both), and is located in Garfield County with a small portion in southern Rio Blanco County. The Planning Area lies north of Interstate 70 (I-70) between the towns of Rifle and Parachute.

Transfer of NOSRs 1 and 3 from DOE to BLM was effected by the National Defense Authorization Act for Fiscal Year 1998, Public Law 105-85 (the “Transfer Act”). The Roan Plateau RMP Amendment/EIS analyzes options for implementing the Transfer Act, which directed the BLM to enter into leases, as soon as practicable, with one or more private entities for the purpose of exploration, development, and production of petroleum. In addition, the Transfer Act stipulates that the transferred lands are to be managed in accordance with the Federal Land Policy and Management Act (FLPMA) and other laws applicable to public lands.

Five alternatives were published in the Draft RMPA/EIS in November 2004 ranging from leaving 44,267 acres of the 73,602 acre planning area closed to oil and gas leasing (No Action Alternative) to the most development-oriented alternative (Alternative V). All alternatives would have allowed some development, and would have provided some environmental safeguards. Alternative III (Preferred) would have deferred leasing atop the plateau until the lower elevations were substantially developed, and would have provided substantial environmental mitigation atop the plateau. Following the 90-day public comment period (extended to 120 days), BLM continued to work with Cooperating Agencies, including the Colorado Department of Natural Resources (and its agencies the Colorado Division of Wildlife, Colorado Oil and Gas Conservation Commission, the Colorado Geological Survey, and Colorado Division of Parks), Garfield County, Rio Blanco County, City of Rifle, Town of Parachute, and City of Glenwood Springs. As a result of the Cooperating Agency meetings and discussion, the Colorado Department of Natural Resources (CDNR) proposed an innovative approach to oil and gas development atop the plateau intended to accommodate the development of the underlying gas resource while providing substantial levels of natural resource protection. The CDNR approach, which has been adopted by the BLM as the preferred alternative, would mitigate impacts to sensitive resources by requiring phased and clustered development within an Undivided Federal Unit on the upper plateau. Mitigation under the CDNR proposal would also result from limiting the amount of land in a disturbed condition at any one time to approximately 1 percent of the total area of the upper plateau (350 acres).

Alternatives considered represent possible amendments to the current management direction provided by the 1984 Resource Management Plan (RMP) for the Glenwood Springs Resource Area (GSRA), revised in 1988 and amended in 1991, 1996, 1997, 1999, and 2002, and the 1997 White River Resource Area (WRRA) RMP.

The overarching goal of the PRMP/FEIS is to protect key ecological, visual, and recreational values while allowing for the leasing and development of oil and gas resources under strict and performance-based standards:

• The PRMP/FEIS would designate four Areas of Critical Environmental Concern (ACECs), including East Fork Parachute Creek and Trapper/Northwater Creek atop the plateau and Magpie Gulch and Anvil Points along and below the cliffs, with a combined area of 21,034 acres.

• The upper area of the plateau would be identified as the Parachute Creek Watershed Management Area to meet the special management requirements of this particular resource and encompasses 33,575 acres.

• Protection of stream segments found eligible for designation as Wild and Scenic Rivers (WSRs) would also be provided.

• Motorized and mechanized travel would be limited to designated routes throughout the Planning Area, except for over-snow travel by snowmobile with at least 12 inches of snow cover, and an existing area of concentrated OHV use to be designated as the Hubbard Mesa OHV Riding Area.

Instructions for filing a protest with the Director of the BLM regarding the PRMP/FEIS may be found at 43 CFR 1610.5-2. A protest may only raise those issues which were submitted for the record during the planning process. E-mail and faxed protests will not be accepted as valid protests unless the protesting party also provides the original letter by either regular or overnight mail postmarked by the close of the protest period. Under these conditions, the BLM will consider the e-mail or faxed protest as an advance copy and it will receive full consideration. If you wish to provide BLM with such advance notification, please direct faxed protests to the attention of the BLM protest coordinator at 202-452-5112, and e-mails to Brenda_Hudgens-Williams@blm.gov. Please direct the follow-up letter to the appropriate address provided below. The protest must contain:

(1) The name, mailing address, telephone number and interest of the person filing the protest;

(2) A statement of the issue or issues being protested;

(3) A statement of the part or parts of the plan amendment (Proposed Plan) being protested;

(4) A copy of all documents addressing the issue or issues that were submitted during the planning process by the protesting party or an indication of the date the issue or issues were discussed for the record; and

(5) A concise statement explaining why the State Director's decision is believed to be wrong.

All protests must be in writing and mailed to one of the following addresses:

Regular Mail: Director (210), Attention: Brenda Williams, P.O. Box 66538, Washington, DC 20035.

Overnight Mail: Director (210), Attention: Brenda Williams, 1620 L Street, NW., Suite 1075, Washington, DC 20036.

Individual respondents may request confidentiality. If you wish to withhold your name or street address from public review or from disclosure under the Freedom of Information Act, you must state this prominently at the beginning of your protest. Such requests will be honored to the extent allowed by law. All protests from organizations and businesses, and from individuals identifying themselves as representatives or officials of organizations or businesses, will be available for public inspection in their entirety. The Director will promptly render a decision on protests. The decision will be in writing and will be sent to the protesting party by certified mail, return receipt requested. The decision of the Director is the final decision of the Department of the Interior.

Dated: May 17, 2006.
Jamie E. Connell,
Field Manager.

This document was received at the Office of the Federal Register on August 31, 2006.

[FR Doc. E6-14695 Filed 9-6-06; 8:45 am]

BILLING CODE 4310-JB-P